DEPARTMENT OF COMMERCE

International Trade Administration

[A-533-810]

Stainless Steel Bar from India; Extension of Time Limit for the Final Results of the Antidumping Duty Administrative Review

AGENCY: Import Administration, International Trade Administration, Department of Commerce.

ACTION: Notice of Extension of Time Limit.

SUMMARY: The Department of Commerce is extending the time limit for the final results of the administrative review of the antidumping duty order on stainless steel bar from India. The period of review is February 1, 2001, through January 31, 2002. This extension is made pursuant to section 751(a)(3)(A) of the Tariff Act of 1930, as amended by the Uruguay Round Agreements Act.

DATES: EFFECTIVE DATE: June 9, 2003.

FOR FURTHER INFORMATION CONTACT: Cole Kyle, Office 1, Import Administration, International Trade Administration, U.S. Department of Commerce, 14th Street and Constitution Avenue, NW, Washington DC 20230; at telephone (202) 482-1503.

Background

On March 7, 2003, the Department published the preliminary results of the administrative review of the antidumping duty order on stainless steel bar from India covering the period February 1, 2001 through January 31, 2002 (68 FR 11058). The final results for the antidumping duty administrative review of stainless steel bar from India are currently due no later than July 7, 2003.

Extension of Time Limits for Final Results

Section 751(a)(3)(A) of the Tariff Act of 1930, as amended by the Uruguay Round Agreements Act (“the Act”), requires the Department of Commerce (“the Department”) to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

The Department recently conducted sales verifications of each of the respondents involved in this administrative review and is currently conducting the cost of production verifications. In order to allow sufficient time for the parties to analyze the verification results and to submit written arguments and for the Department, in turn, to analyze those arguments, we find that it is not practicable to complete this review within the originally anticipated time limit (i.e., July 7, 2003). Therefore, the Department is extending the time limit for completion of the final results to no later than August 4, 2003, in accordance with section 751(a)(3)(A) of the Act.

We are issuing and publishing this notice in accordance with sections 751(a)(1) and 777(i)(1) of the Act.

Dated: June 3, 2003.
Jeffrey May,
Deputy Assistant Secretary for AD/CVD Enforcement.

[FR Doc. 03-14442 Filed 6-6-02; 8:45 am]

BILLING CODE 3510-DS-S